DEPARTMENT OF JUSTICE

[OMB Number 1110-0011]

Agency Information Collection Activities; Proposed eCollection of eComments Requested; Revision of a Previously Approved Collection

AGENCY: Violent Criminal Apprehension Program (ViCAP), Critical Incident Response Group, Federal Bureau of Investigation, Department of Justice.

ACTION: 30-Day notice.

SUMMARY: The Violent Criminal Apprehension Program, Critical Incident Response Group, Federal Bureau of Investigation, Department of Justice, has submitted the following information collection request to the Office of Management and Budget (OMB) for review and clearance in accordance with established review procedures of the Paperwork Reduction Act of 1995.

DATES: The Department of Justice encourages public comment and will accept input until August 24, 2022.

FOR FURTHER INFORMATION CONTACT: If you have additional comments especially on the estimated public burden or associated response time, suggestions, or need a copy of the proposed information collection instrument with instructions or additional information, please contact Nathan Graham, Program Manager, ViCAP, Critical Incident Response Group, Federal Bureau of Investigation, FBI Academy, Quantico, Virginia 22135; phone: 202-324-3000, facsimile (703) 632-4239. Written comments and/or suggestions can also be directed to the Office of Management and Budget, Office of Information and Regulatory Affairs, Attention Department of Justice Desk.

SUPPLEMENTARY INFORMATION: Written comments and suggestions from the public and affected agencies concerning the proposed collection of information are encouraged. Your comments should address one or more of the following four points:

• Evaluate whether the proposed collection of information is necessary for the proper performance of the functions of the Critical Incidence Response Group, Federal Bureau of Investigation, including whether the information will have practical utility;

• Evaluate the accuracy of the agency's estimate of the burden of the proposed collection of information, including the validity of the methodology and assumptions used;

• Evaluate whether and if so how the quality, utility, and clarity of the information to be collected can be enhanced; and

• Minimize the burden of the collection of information on those who are to respond, including through the use of appropriate automated, electronic, mechanical, or other technological collection techniques or other forms of information technology, e.g., permitting electronic submission of responses.

Overview of This Information Collection

1. Type of Information Collection: Revision of a currently approved collection.

2. The Title of the Form/Collection: ViCAP Case Submission Form.

3. The agency form number, if any, and the applicable component of the Department sponsoring the collection: The form number is FD-676. The applicable component within the Department of Justice is the Federal Bureau of Investigation.

4. Affected public who will be asked or required to respond, as well as a brief abstract: Primary: Federal, state, local, and tribal government law enforcement agencies charged with the responsibility of investigating violent crimes.

Abstract: Established by the Department of Justice in 1985, ViCAP serves as the national repository for violent crimes; specifically; Homicides (and attempts) that are known or suspected to be part of a series and/or are apparently random, motiveless, or sexually oriented. Sexual assaults that are known or suspected to be part of a series and/or are committed by a stranger. Missing persons where the circumstances indicate a strong possibility of foul play and the victim is still missing. Unidentified human remains where the manner of death is known or suspected to be homicide. Comprehensive case information submitted to ViCAP is maintained in the ViCAP National Crime Database and is automatically compared to all other cases in the databases to identify potentially related cases.

5. An estimate of the total number of respondents and the amount of time estimated for an average respondent to respond: Of the approximately 18,000 government law enforcement agencies that are eligible to submit cases, it is estimated that thirty to fifty percent will actually submit cases to ViCAP. The time burden of the respondents is less than 60 minutes per form.

6. An estimate of the total public burden (in hours) associated with the collection: 5,000 annual burden hours.

If additional information is required contact: Robert Houser, Assistant Director, Policy and Planning Staff, Justice Management Division, United States Department of Justice, Two Constitution Square, 145 N Street NE, 3E.405A, Washington, DC 20530.

Dated: July 20, 2022.
Robert Houser,
Department Clearance Officer for PRA, Assistant Director, U.S. Department of Justice.

[FR Doc. 2022-15819 Filed 7-22-22; 8:45 am]

BILLING CODE 4410-02-P